ENVIRONMENTAL PROTECTION AGENCY

[FRL-8336-6]

Casmalia Superfund Site; Notice of Proposed CERCLA Administrative De Minimis Settlement

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative de minimis settlement concerning the Casmalia Superfund Site in Santa Barbara County, California (“the Casmalia Superfund Site”). Section 122(g) of CERCLA, 42 U.S.C. 9622(g), provides EPA with the authority to enter into administrative de minimis settlements. This settlement is intended to resolve the liabilities of 31 settling parties for the Casmalia Superfund Site under CERCLA and section 7003 of the Resource Conservation and Recovery Act (“RCRA”), 42 U.S.C. 6973. The settlement will also resolve the Casmalia Superfund Site-related liability for response costs incurred or to be incurred, and potential natural resource damage claims, by the United States Fish and Wildlife Service, the National Oceanic and Atmospheric Administration, and the United States Air Force. The settling parties will pay a total of $1,067,477 to EPA.

DATES: EPA will receive written comments relating to the settlement until August 10, 2007. The EPA will consider all comments it receives during this period, and may modify or withdraw its consent to the settlement if any comments disclose facts or considerations indicating that the settlement is inappropriate, improper, or inadequate.

In accordance with section 7003(d) of RCRA, 42 U.S.C. 6973(d), commenters may request an opportunity for a public meeting in the affected area. The deadline for requesting a public meeting is July 19, 2007. Requests for a public meeting may be made by calling Karen Goldberg at (415) 972-3951, or e-mailing her at goldberg.karen@epa.gov, or submitting a written request by facsimile addressed to her at (415) 947-3570.

ADDRESSES: Written comments should be addressed to Casmalia Case Team, U.S. Environmental Protection Agency Region IX, 75 Hawthorne Street (mail code SFD-7-1), San Francisco, California 94105-3901.

FOR FURTHER INFORMATION CONTACT: Additional information about the Casmalia Superfund Site and about the proposed settlement may be obtained on the Casmalia Web site at: http://www.epa.gov/region09/Casmalia or by calling Karen Goldberg at (415) 972-3951.

List of Settling Parties
PRP | Volume (pounds)
AK Steel Corporation, Successor by Merger to Armco, Inc | 1,112,240
Bioresearch, Inc | 25,366
Carlsbad Unified School District | 682,892
City of San Jose | 411,927
E.C. Loomis & Son | 1,268,700
General Atomics | 369,696
Goleta Water District | 212,560
Guadalupe Union School District | 55,140
Kevex Corporation | 431
Lear Siegler Diversified Holdings Corp | 1,555,738
Paccar, Inc | 511,100
Plessey Semiconductors, Inc | 167,208
Redevelopment Agency of San Jose | 78,200
Santa Palm Car Wash | 777,886
Saticoy Lemon Association | 278,898
Siemens Energy & Automation | 158,722
Siemens Holding, LLC | 76,021
Siemens Information & Communication Networks, Inc | 34,979
Siemens Medical Systems, Inc., Oncology Care Systems Group | 8,972
Sweetwater Union High School District | 54,518
Technitron Incorporated | 51,918
Tenneco Packaging, Inc. (n/k/a Pactiv Corporation) | 166,718
Thermo Finnigan LLC, formerly Finnigan Corporation | 10,907
Thermo Securities Corporation (as Successor to Cal-Doran Metallurgical Services) | 64,206
Thermo Separation Product, Inc | 1,514
U.S. Coast Guard | 604,643
U.S. Department of Interior | 18,420
U.S. Department of Veterans Affairs | 871,758
United States Environmental Protection Agency | 72,501

Dated: June 26, 2007.
Keith Takata,
Director, Superfund Division, Region IX.

[FR Doc. E7-13124 Filed 7-5-07; 8:45 am]

BILLING CODE 6560-50-P